DEPARTMENT OF DEFENSE

Defense Logistics Agency

Privacy Act of 1974; Defense Logistics Agency

AGENCY: Defense Logistics Agency.

ACTION: Notice to delete a record system.

SUMMARY: The Defense Logistics Agency is proposing to delete a system of records from its inventory of records systems subject to the Privacy Act of 1974, (5 U.S.C. 552a), as amended.

DATES: This proposed action will be effective without further notice on June 14, 2000 unless comments are received which result in a contrary determination.

ADDRESSES: Send comments to the Privacy Act Officer, Headquarters, Defense Logistics Agency, ATTN: CAAR, 8725 John J. Kingman Road, Suite 2533, Fort Belvoir, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The proposed deletion is not within the purview of subsection (r) of the Privacy Act of 1974, (5 U.S.C. 552a), as amended, which requires the submission of a new or altered system report.

Dated: May 9, 2000.
L.M. Bynum,
Alternate OSD Federal Register Liaison Officer, Department of Defense.

S322.53 DMDC

System name:

Defense Debt Collection Data Base (May 11, 1999, 64 FR 25310).

Reason: These records have been transferred to the Defense Finance and Accounting Service and are now being maintained under Privacy Act system of records T7332, Defense Debt Management System.

[FR Doc. 00-12070 Filed 5-12-00; 8:45 am]

BILLING CODE 5001-10-F